DEPARTMENT OF HEALTH AND HUMAN SERVICES

Administration for Children and Families

Proposed Information Collection Activity; Office of Community Services (OCS) Community Economic Development (CED) Standard Reporting Format (Office of Management and Budget) (OMB) #0970-0386)

AGENCY: OCS, Administration for Children and Families (ACF), U.S. Department of Health and Human Services (HHS).

ACTION: Request for public comments.

SUMMARY: OCS is requesting a three-year extension of the semi-annual reporting format for CED grant recipients, the Performance Progress Report (PPR), which collects information regarding the outcomes and management of CED projects (OMB #0970-0386, expiration February 28, 2023). There are minor changes requested to the form to provide clarity to users completing the form.

DATES: Comments due within 60 days of publication. In compliance with the requirements of the Paperwork Reduction Act (PRA) of 1995, ACF is soliciting public comment on the specific aspects of the information collection described above.

ADDRESSES: You can obtain copies of the proposed collection of information and submit comments by emailing infocollection@acf.hhs.gov. Identify all requests by the title of the information collection.

SUPPLEMENTARY INFORMATION: Description: OCS will continue collecting key information about projects funded through the CED program. The legislative requirement for this program is in Title IV of the Community Opportunities, Accountability and Training and Educational Services Act (COATS Human Services Reauthorization Act) of October 27, 1998, Public Law 105-285, section 680(b) as amended. The PPR collects information regarding the outcomes and management of CED projects. OCS will use the data to critically review the overall design and effectiveness of the program.

The PPR will continue to be administered to all active grant recipients of the CED program. Grant recipients will be required to use this reporting tool for their semi-annual reports to be submitted twice a year. Through a previous renewal, the current PPR replaced both the annual questionnaire and other semi-annual reporting formats, which resulted in an overall reduction in burden for the grant recipients, significantly improved the quality of the data collected by OCS, and allowed grant recipients to become accustomed to this format. OCS seeks to renew this PPR to continue to collect quality data from grant recipients. To ensure the burden on grant recipients is not increased, but that the information collected demonstrates the full impact of the program, OCS has conducted an in-depth review of the forms and requests minor changes to the PPR to provide clarity to users filling out the form.

Respondents: Active CED Grant Recipients.

Annual Burden Estimates
Instrument | Total number of respondents | Annual number of responses per respondent | Average burden hours per response | Annual burden hours
PPR for Current OCS-CED Grant Recipients | 91 | 2 | 1.5 | 273

Estimated Total Annual Burden Hours: 273.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 680(a)(2) of the Community Services Block Grant (CSBG) Act, 42 U.S.C. 9921.

Mary B. Jones,
ACF/OPRE Certifying Officer.

[FR Doc. 2022-15615 Filed 7-21-22; 8:45 am]

BILLING CODE 4184-24-P